DEPARTMENT OF TRANSPORTATION

Federal Aviation Administration

Proposed Federal Aviation Administration Order 8100.14A, Interim Procedures for Working With the European Community on Airworthiness Certification and Continued Airworthiness

AGENCY: Federal Aviation Administration (DOT).

ACTION: Notice of availability and requests for public comment.

SUMMARY: This notice announces the availability of and requests comments on proposed Federal Aviation Administration (FAA) Order 8100.14A, Interim Procedures for Working with the European Community on Airworthiness Certification and Continued Airworthiness. The proposed revision will replace FAA Order 8100.14; Interim Procedures for Working with the European Community on Airworthiness Certification and Continued Airworthiness dated September 30, 2003. The proposed revised Order provides guidance to Aircraft Certification Field Offices personnel on how to work with their counterparts in the European Aviation Safety Agency (EASA) and the National Aviation Authorities (NAA) of European Union Member States.

DATES: Submit comments on or before July 5, 2005.

ADDRESSES: Send all comments on proposed FAA Order 8100.14A to: Federal Aviation Administration, Aircraft Certification Service, International Policy Office, Federal Office Building 10B, Floor 6 West, 800 Independence Avenue, SW., Washington, DC 20591. ATTN. Walter Dillon, AIR-40. Or deliver comments to: Federal Aviation Administration, Federal Office Building-10B, Room 6 West, 800 Independence Avenue, SW., Washington, DC 20591.

FOR FURTHER INFORMATION CONTACT: Walter Dillon, Federal Aviation Administration, Aircraft Certification Service, International Policy Office, AIR-40, Floor 6 West, 800 Independence Avenue, SW., Washington, DC 20591. Telephone (202) 385-8943, fax (202) 493-5144. E-mail walter.dillon@faa.gov.

SUPPLEMENTARY INFORMATION:

Comments Invited

Submit written data, views, or arguments on the proposed Order to the above-specified address. Your comments should stipulate “Comments to proposed FAA Order 8100.14A.” You may examine comments before and after the comment closing date by visiting Room 6 West, FAA Building 10B, 800 Independence Avenue, SW., Washington, DC, weekdays except Federal holidays, between 8 a.m. and 4 p.m. The Director, Aircraft Certification Service, will consider all comments received on or before the closing date before issuing the final Order.

Background

FAA Order 8100.14 was first published to coincide with the date the European Aviation Safety Agency (EASA) began operations in September 2003. This order provided interim policy and guidance on how to interact with the newly established EASA and the National Aviation Authorities of European Union Member States for the purposes of type, production, and airworthiness certification, and continued airworthiness of aeronautical products.

Over the past two years EASA moved its headquarters, expanded its infrastructure, and developed and implemented several internal policies. EASA's growth and resulting process changes have affected the interaction between EASA and the FAA, resulting in the first revision of Order 8100.14.

How To Obtain Copies

You can get a copy of proposed FAA Order 8100.14A from the FAA's Regulatory and Guidance Library (RGL) at: http://www.airweb.faa.gov/rgl. On the RGL Web site, click on “Draft Advisory Circulars” then on “Open for Comment” to view the draft Order. Or, contact the person listed in the section titled FOR FURTHER INFORMATION CONTACT.

Issued in Washington, DC, on May 25, 2005.
Mary Cheston,
Manager, International Policy Office, Aircraft Certification Service.

[FR Doc. 05-10903 Filed 6-1-05; 8:45 am]

BILLING CODE 4910-13-M